DEPARTMENT OF ENERGY

Federal Energy Regulatory Commission

[Docket No. RP96-312-036]

Tennessee Gas Pipeline Company; Notice of Negotiated Rate Filing

December 14, 2000.

Take notice that on December 12, 2000, Tennessee Gas Pipeline Company (Tennessee), tendered for filing and approval a Gas Transportation Agreement between Tennessee and Unocal Energy Trading, Inc. (Unocal) pursuant to Tennessee's Rate Schedule FT-A (FT-A Service Agreement) and a copy of a November 29, 2000 Firm Transportation Negotiated Rate Agreement entered into between Tennessee and Unocal (Negotiated Rate Agreement). The filed FT-A Service Agreement and the Negotiated Agreement reflect a negotiated rate arrangement between Tennessee and Unocal to be effective January 1, 2001 through September 30, 2003.

Any person desiring to be heard or to protest said filing should a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 00-32348 Filed 12-19-00; 8:45 am]

BILLING CODE 6717-01-M